DEPARTMENT OF COMMERCE

International Trade Administration

A-570-831

Fresh Garlic from the People's Republic of China: Extension of Time Limits for the Preliminary Results of the 11th Administrative Review and New Shipper Reviews

AGENCY: Import Administration, International Trade Administration, Department of Commerce.

EFFECTIVE DATE: November 15, 2006.

FOR FURTHER INFORMATION CONTACT: Irene Gorelik, AD/CVD Operations, Office 9, Import Administration, International Trade Administration, U.S. Department of Commerce, 14th Street and Constitution Avenue, NW, Washington DC 20230; telephone: (202) 482-6905.

SUPPLEMENTARY INFORMATION:

Background

On December 22, 2005, the Department published a notice of initiation of a review of fresh garlic from the People's Republic of China (“PRC”), covering the period November 1, 2004, through October 31, 2005. See Initiation of Antidumping and Countervailing Duty Administrative Reviews and Requests for Revocation in Part, 70 FR 76024 (December 22, 2005). On December 28, 2005, the Department published a notice of initiation of new shipper reviews of fresh garlic from the PRC covering the period November 1, 2004, through October 31, 2005. See Fresh Garlic from the People's Republic of China: Initiation of New Shipper Reviews, 70 FR 76765 (December 28, 2005).

On April 28, 2006, the Department aligned the statutory time lines of the 11th administrative review and all but one of the new shipper reviews.¹ On June 14, 2006, the Department published a notice of an extension of time limits for the 11th administrative review and new shipper reviews. See Fresh Garlic from the People's Republic of China: Extension of Time Limits for the Preliminary Results of the 11th Administrative Review and New Shipper Reviews, 70 FR 34304 (June 14, 2006), which extended the deadline for the preliminary determination to October 2, 2006. On August 14, 2006, Qingdao Xintianfeng Foods Company Ltd. (“QXF”), whose new shipper review had not been aligned with the administrative review, agreed to waive the new shipper time limits, pursuant to 19 CFR 351.214(j)(3).² On August 23, 2006, QXF submitted a letter stating that it agreed to the alignment of the new shipper review with the 11th administrative review and thus waiving the new shipper time limits. On August 14, 2006, the Department aligned the statutory time lines of the 11th administrative review with QXF's new shipper review.³

¹ See the Department's letter to All Interested Parties, dated April 28, 2006.

² See the Department's letter to All Interested Parties, dated August 14, 2006, where the Department notes that QXF agreed to waive the new shipper time limits.

³ Id.

In August 2006, the Department conducted verifications of sales and factors of production (“FOP”) for the five new shipper reviews and one administrative review company. On September 19, 2006, the Department published a second notice of an extension of time limits for the 11th administrative review and new shipper reviews, which extended the deadline for the preliminary determination to November 16, 2006. See Fresh Garlic from the People's Republic of China: Extension of Time Limits for the Preliminary Results of the 11th Administrative Review and New Shipper Reviews, 71 FR 54796 (September 19, 2006).

Extension of Time Limit of Preliminary Results

The Department determines that completion of the preliminary results of these reviews within the statutory time period is not practicable, given the extraordinarily complicated nature of the proceeding. The 11th administrative review and new shipper reviews cover nine companies, and to conduct the sales and factor analyses for each requires the Department to gather and analyze a significant amount of information pertaining to each company's sales practices and manufacturing methods. The Department requires more time within which to complete our analysis. Furthermore, the five new shipper reviews involve extraordinarily complicated methodological issues such as the use of intermediate input methodology, potential affiliation issues and the examination of importer information. Additionally, the Department requires additional time to analyze the verification findings of the new shipper reviews.

Therefore, given the number and complexity of issues in this case, and in accordance with sections 751(a)(3)(A) and 751(a)(2)(B)(iv) of the Act, we are extending the time period for issuing the preliminary results of review by 14 days until November 30, 2006. The final results continue to be due 120 days after the publication of the preliminary results.

This notice is published pursuant to sections 751(c)(3)(A) and 751(a)(2)(B)(iv) of the Act, and 19 CFR 351.214(h)(i)(1).

Dated: November 7, 2006.
Stephen J. Claeys,
Deputy Assistant Secretary for Import Administration.

[FR Doc. E6-19294 Filed 11-14-06; 8:45 am]

BILLING CODE 3510-DS-S